DEPARTMENT OF COMMERCE

National Oceanic and Atmospheric Administration

[I.D. 081104J]

Endangered Species; File No. 1449

AGENCY: National Marine Fisheries Service (NMFS), National Oceanic and Atmospheric Administration (NOAA), Commerce.

ACTION: Receipt of application.

SUMMARY: Notice is hereby given that Christine A. Tomichek, Kleinschmidt Associates, Kleinschmidt Building, 35 Pratt Street, Essex, Connecticut, 06426, has applied in due form for a permit to take shortnose sturgeon (Acipenser brevirostrum) for purposes of scientific research.

DATES: Written, telefaxed, or e-mail comments must be received on or before September 17, 2004.

ADDRESSES: The application and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9200; fax (978)281-9371.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1449.

FOR FURTHER INFORMATION CONTACT: Jennifer Jefferies or Patrick Opay, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The purpose of the proposed study is to conduct research on the impacts of the hydroelectric facility's activities on shortnose sturgeon in the Connecticut River as part of the Holyoke Hydroelectric Project (FERC No. 2004) license renewal. Limited evidence suggests that shortnose sturgeon may migrate downstream during high flow events; however, information is lacking with regards to time of year or time of day that the migration might occur. To address these objectives, the researchers are requesting authorization to conduct three projects. In the first project, 30 captively bred juvenile sturgeon would be externally tagged with a radio tag, released into the canal, tracked and recaptured after exiting the canal. In the second project, 20 adult sturgeon would be captured annually for four years via trawls and gillnets, measured, weighed, tagged with PIT and external radio tags, released and tracked. In the third project, 200 eggs and larvae would be captured via D-nets and preserved to evaluate spawning behavior. This permit would be authorized for five years from date of issuance.

Dated: August 12, 2004.
Carrie W. Hubard,
Acting Chief, Permits, Conservation and Education Division, Office of Protected Resources, National Marine Fisheries Service.

[FR Doc. 04-18955 Filed 8-17-04; 8:45 am]

BILLING CODE 3510-22-S